DEPARTMENT OF AGRICULTURE

Forest Service

Fuels Management Treatment Within the Main Boulder River Drainage, Big Timber MT, Gallatin National Forest, Sweet Grass County, MT

AGENCY: Forest Service, USDA

ACTION: Notice; intent to prepare environmental impact statement.

SUMMARY: The USDA, Forest Service, will prepare an environmental impact statement (EIS) to disclose the environmental effects of overstory and understory canopy thinning, prescribed burning, wildlife habitat enhancement, and hazardous fuels reduction located in the Main Boulder River drainage, Gallatin National Forest, Big Timber Ranger District, Sweet Grass County, Montana.

The Gallatin National Forest Land and Resource Management Plan (Forest Plan) provides overall guidance for land management activities, including vegetation, natural fuels and road management, within the area. The proposed actions of overstory and understory canopy thinning, prescribed burning, and hazardous fuels reductions are being considered together because they represent either connected or cumulative actions as defined by the Council on Environmental Quality (40 CFR 1508.25). This EIS will tier to the Gallatin Forest Plan Final EIS (September, 1987) as well as the Absaroka-Beartooth Wilderness Fire Management Guidebook (1993).

DATES: Written comments and suggestions should be received on or before December 6, 2002.

ADDRESSES: Submit written comments and suggestions on the proposed management activities or a request to be placed on the project mailing list to Bill Avey, District Ranger, Big Timber Ranger District, Gallatin National Forest, PO Box 1130, Big Timber, Montana, 59011-1130 (phone 406-932-5155).

SUPPLEMENTARY INFORMATION: A variety of fuel management treatments are proposed on approximately 1000 acres of forested land in the Main Boulder River drainage.

The Gallatin Forest Plan provides the overall guidance for management activities in the potentially affected area through its goals, objectives, standards and guidelines, and management area direction. The primary goals of this project are to: (1) Reduce fuel loadings, where possible, along the corridor, to be more consistent with natural presuppression levels; (2) reduce fire hazard along the river corridor to provide evacuation staging areas and the maximum time possible for public evacuation in the event of a wildfire; and (3) provide maximum fire fighter and public safety. Secondary goals include improving wildlife habitat and improving fire protection in the wildland urban interface located within the Main Boulder River drainage.

The project area consists of approximately 2500 acres of National Forest land located in T3S R12E, T4S R12E, T5S R12XE, and T6S R12E P.M. MT. The majority of the fuels treatments would occur within the Main Boulder River drainage and outside of the Absaroka-Beartooth Wilderness Area.

The Forest Service will consider a range of alternatives. One of these will be the “no action” alternative, in which none of the proposed activities would be implemented. Additional alternatives will examine varying levels and locations for the proposed activities in response to issues and other resource values.

The EIS will analyze the direct, indirect, and cumulative environmental effects of the alternatives. Past, present, and projected activities on both private and National Forest lands will be considered, including the effects caused by recent and past harvesting and road construction on public and private lands. The EIS will disclose the analysis of site-specific mitigation measures and their effectiveness.

Public participation is an important part of the analysis, commencing with the initial scoping process (40 CFR 1501.7), which will occur during October 2002. In addition to this initial scoping, the public may visit Forest Service officials at any time during the analysis and prior to the decision. The Forest Service will be seeking information, comments, and assistance from Federal, State, and local agencies and other individuals or organizations who may be interested in or affected by the proposed action. No public meetings are scheduled at this time.

Comments from the public and other agencies will be used in preparation of the Draft EIS. The scoping process will be used to:

1. Identify potential issues.

2. Identify issues to be analyzed in depth.

3. Eliminate insignificant issues or those which have been covered by a relevant previous environmental analysis, such as the Gallatin Forest Plan EIS.

4. Identify alternatives to the proposed action.

5. Identify potential environmental effects of the proposed action and alternatives (i.e., direct, indirect, and cumulative effects.

6. Determine potential cooperating agencies and task assignments.

The Draft EIS is expected to be filed with the Environmental Protection Agency (EPA) and available for public review in October 2004. At that time, the EPA will publish a Notice of Availability of the Draft EIS in the Federal Register. The comment period on the Draft EIS will be 45 days from the date the EPA's notice of availability appears in the Federal Register. It is very important that those interested in management of the Main Boulder River project area participate at that time. The Final EIS is scheduled to be completed by December 2004.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 533 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 30-day scoping comment period so that substantive comments and objections are made available to the Forest Service at a time when it can meaningfully consider them and respond to them in developing issues and alternatives. To assist the Forest Service in identifying and considering issues, comments should be as specific to this proposal as possible. Reviewers may wish to refer to the Council on Environmental Quality Regulations for implementing the procedural provisions of the National Environmental Policy Act at 40 CFR 1503.3 in addressing these points.

I am the responsible official for this environmental impact statement. My address is Big Timber Ranger District, PO Box 1130, Big Timber, MT 59011-1130.

Dated: October 16, 2002.
William Avey,
District Ranger.

[FR Doc. 02-28150 Filed 11-5-02; 8:45 am]

BILLING CODE 3410-11-M